ENVIRONMENTAL PROTECTION AGENCY

[OPPT-2003-0004; FRL-7294-7]

Access to Confidential Business Information by TEK Systems, Incorporated

AGENCY: Environmental Protection Agency (EPA).

ACTION: Notice.

SUMMARY: EPA has authorized the Chemical Abstract Services (CAS) and its subcontractor TEK Systems, Incorporated of Dublin, OH access to information which has been submitted to EPA under sections 5 and 8 of the Toxic Substances Control Act (TSCA). Some of the information may be claimed or determined to be Confidential Business Information (CBI).

DATES: Access to the confidential data submitted to EPA under sections 5 and 8 of TSCA occurred as a result of an approved waiver dated December 18, 2002, which requested granting TEK Systems, Incorporated immediate access to sections 5 and 8 of TSCA CBI.

FOR FURTHER INFORMATION CONTACT: Barbara A. Cunningham, Acting Director, Environmental Assistance Division (7408M), Office of Pollution Prevention and Toxics, Environmental Protection Agency, 1200 Pennsylvania Ave., NW., Washington, DC 20460-0001; telephone number: (202) 554-1404; e-mail address: TSCA-Hotline@epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. EPA's Docket Center is open from 8:30 a.m. to 4:30 p.m., Monday through Friday, excluding legal holidays. EPA's Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

Under Contract Number 68-W-00-127, subcontractor TEK Systems, Incorporated of 5115 Parkcenter Avenue, Suite 170, Dublin, Ohio, will assist the Office of Pollution Prevention and Toxics (OPPT) by providing technical support, for enhancing the confidential Master Inventory File. TEK Systems, Incorporated will specifically be making changes to coding in the Master Inventory File and testing these changes to ensure completeness of the work and integrity of the Master Inventory File.

In accordance with 40 CFR 2.306(j), EPA has determined that under Contract Number 68-W-00-127, TEK Systems, Incorporated will require access to CBI submitted to EPA under sections 5 and 8 of TSCA, to perform successfully the duties specified under the contract.

TEK Systems, Incorporated was granted a waiver on December 18, 2002. This waiver was necessary to allow TEK Systems, Incorporated to assist OPPT in the activities listed above.

TEK Systems, Incorporated personnel was given access to information submitted to EPA under sections 5 and 8 of TSCA. Some of the information may be claimed or determined to be CBI.

EPA is issuing this notice to inform all submitters of information under sections 5 and 8 of TSCA that the Agency may provide TEK Systems, Incorporated access to these CBI materials on a need-to-know basis only. All access to TSCA CBI under this contract will take place at the Chemical Abstract Services site, located at 2540 Olentangy River Road, Columbus, Ohio.

TEK Systems, Incorporated will be required to adhere to all provisions of EPA's TSCA Confidential Business Information Security Manual.

Clearance for access to TSCA CBI under Contract Number 68-W-00-127 may continue until September 30, 2003.

TEK Systems, Incorporated personnel will be required to sign nondisclosure agreements and will be briefed on appropriate security procedures before they are permitted access to TSCA CBI.

List of Subjects

Environmental protection, Confidential business information.

Dated: February 26, 2003.
Allan S. Abramson,
Director, Information Management Division, Office of Pollution Prevention and Toxics.

[FR Doc. 03-5318 Filed 3-6-03; 8:45 am]

BILLING CODE 6560-50-S